SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Travel Expense Reimbursement—20 CFR 404.999(d) and 416.1499—0960-0434. The Social Security Act provides for travel expense reimbursement by the State agency or Federal agency for claimant travel incidental to medical examinations and to parties, their representatives, and all reasonably necessary witnesses. Reimbursement is applicable to travel exceeding 75 miles to attend medical examinations, reconsideration interviews and proceedings before an administrative law judge. Reimbursement procedures require the claimant to provide (1) A list of expenses incurred, and (2) receipts of such expense. State and Federal personnel review the listings and receipts to verify the amount to be reimbursed to the claimant. The respondents are claimants for Title II benefits and Title XVI payments.

Type of Request: Extension of an OMB-approved information collection.

Number of Respondents: 50,000.

Frequency of Response: 1.

Average Burden per Response: 10 minutes.

Estimated Annual Burden: 8,333 hours.

2. Disability Hearing Officer's Report of Disability Hearing—20 CFR 404.917, 416.1407, 416.1417—0960-0440. Form SSA-1205-BK is used by the Disability Hearing Officer conducting the disability interview in preparation for a written reconsidered determination—specifically for evaluating Title II and Title XVI adult disability claims. The form provides the framework for addressing crucial elements in the case and is used in formulating the completed official document of the decision. Respondents are Disability Hearing Officers.

Type of Request: Extension of an OMB-approved information collection.

Number of Respondents: 35,600.

Frequency of Response: 1.

Average Burden per Response: 60 minutes.

Estimated Annual Burden: 35,600 hours.

3. Beneficiary Recontact Report—20 CFR 404.703 and 404.705—0960-0536. SSA needs to ensure that eligibility for benefits continues after entitlement is established. Studies show that payees of children who marry fail to report the marriage, which is a terminating event. SSA asks children ages 15, 16, and 17 information about marital status to detect overpayments and avoid continuing payment to those no longer entitled. Form SSA-1587-OCR-SM is used to obtain information regarding marital status from those children who have representative payees. Respondents are recipients of survivor mother/father Social Security benefits who have representative payees.

Type of Request: Revision of an OMB-approved information collection.

Number of Respondents: 982,357.

Frequency of Response: 1.

Average Burden Per Response: 3 minutes.

Estimated Annual Burden: 49,118 hours.

4. Certificate of Coverage Request—20 CFR 404.1913—0960-0554. The United States has Social Security agreements with 21 countries. These agreements eliminate double Social Security coverage and taxation where, except for the provisions of the agreement, a period of work would be subject to coverage and taxes in both countries. The individual agreements contain rules for determining the country under whose laws the period of work will be covered and to whose system taxes will be paid. The agreements further provide that, upon the request of the worker or employer, the country under whose system the period of work is covered will issue a certificate of coverage. The certificate serves as proof of exemption from coverage and taxation under the system of the other country. The information collected is needed to determine if a period of work is covered by the U.S. Social Security system under an agreement and to issue a U.S. certificate of coverage. Respondents are workers and employers wishing to establish exemption from foreign social security taxes.

Type of Request: Extension of an OMB-approved information collection.

Number of Respondents: 50,000.

Estimated Annual Burden: 25,000 hours.

Type of respondent | Number of respondents | Frequency of response | Average burden per response ­(minutes) | Total annual burden (hours)
Individuals | 30,000 | 1 | 30 | 15,000
Private Sector | 20,000 | 1 | 30 | 10,000
Totals | 50,000 |  |  | 25,000

5. Race & Ethnicity Qualitative Research—0960-NEW.

Collection Background

Currently, the Social Security Administration (SSA) does not have a reliable, statistically valid means of capturing race/ethnicity data in our core business processes. While race/ethnicity data is collected on the Form SS-5, Application for Social Security Card, it is not provided to SSA through other means of enumerating individuals; e.g., the Enumeration at Birth and Enumeration at Entry processes. Consequently, we intend to collect this information in other SSA application processes.

The Office of Management and Budget (OMB) mandated that Federal agencies collecting race and ethnicity information must use consistent standards established by OMB. Adding race/ethnicity as questions to SSA's applications for benefits will enable SSA to improve its administrative data.

Race & Ethnicity Qualitative Research

Before SSA collects race/ethnicity data, we plan to conduct several voluntary focus groups with members of the public to assess their opinions, reactions and recommendations on a proposed form that will be used to collect the information. The questions and race and ethnicity categories will follow the standards developed by OMB. The information from this research will be used to develop a comprehensive collection form. The respondents are members of the public who volunteer to participate in the RECS questions focus groups.

Type of Request: New information collection.

Number of Respondents: 96 (8 focus groups, 12 participants).

Frequency of Response: 1.

Average Burden per Response: 90 minutes.

Estimated Annual Burden: 144 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Child Care Dropout Questionnaire—20 CFR 404.211(e)(4)—0960-0474. Information colleted on this form is used by SSA to determine if an individual qualifies for a child care exclusion in computing the individual's disability benefit amount. Respondents are applicants for disability benefits.

Type of Request: Extension of an OMB-approved information collection.

Number of Respondents: 2000.

Frequency of Response: 1.

Average Burden per Response: 5 minutes.

Estimated Annual Burden: 167 hours.

Dated: July 30, 2007.
Elizabeth A. Davidson,
Reports Clearance Officer, Social Security Administration.

[FR Doc. E7-15152 Filed 8-3-07; 8:45 am]

BILLING CODE 4191-02-P